FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington DC 20551-0001, not later than September 19, 2025.

A. Federal Reserve Bank of New York (Keith Goodwin) 33 Liberty Street, New York, New York 10045-0001. Comments can also be sent electronically to Comments.applications@ny.frb.org:

1. LH Buhrmaster Qualified Family Limited Partnership, Scotia, New York; to join the LH Buhrmaster Family Control Group, a group acting in concert, to acquire voting shares of Glenville Bank Holding Company, Inc., and thereby indirectly acquire voting shares of First National Bank of Scotia, both of Scotia, New York.

B. Federal Reserve Bank of Atlanta (Erien O. Terry, Assistant Vice President) 1000 Peachtree Street NE, Atlanta, Georgia 30309. Comments can also be sent electronically to Applications.Comments@atl.frb.org:

1. Charlotte Moody Leonards, Elizabeth Moody Gielen, and Valerie Moody Hensgens, all of Crowley, Louisiana; Rosalind Moody Robertson, Braxton I. Moody, IV, Beverly Moody Lagroue, Katherine Moody Hundley, Kevin Moody, Stephen Michael Moody, Richard Kevin Moody, II, Benjamin Armstrong Moody, Katherine Moody McCormick, and Caroline Moody Jones, all of Lafayette, Louisiana; to become members of the Moody Family Control Group, a group acting in concert, to retain voting shares of Financial Corporation of Louisiana, and thereby indirectly retain voting shares of Rayne State Bank & Trust Company, both of Rayne, Louisiana.

C. Federal Reserve Bank of Kansas City (Jeffrey Imgarten, Assistant Vice President) 1 Memorial Drive, Kansas City, Missouri 64198-0001. Comments can also be sent electronically to KCApplicationComments@kc.frb.org:

1. The Leslie D. Vollbracht Non-Exempt Marital Trust, Bessmer Trust Company, as trustee, New York, New York; Leslie D. Vollbracht and Dana Lynn Vollbracht, both of Centennial, Colorado; Alison Vollbracht Winfield, Seattle, Washington; the Dana Lynn Vollbracht 2012 Trust, Dana Lynn Vollbracht, as trustee, both of Centennial, Colorado; the Alison Vollbracht Winfield 2012 Trust, Alison Vollbracht Winfield, as trustee, both of Seattle, Washington; the AVW Irrevocable Trust, Alison Winfield, as trustee, both of Seattle, Washington; the Katherine Vollbracht Winfield Trust, Bessmer Trust Company, as trustee, New York, New York; the Kirby Franklin Winfield III Trust, Bessmer Trust Company, as trustee, New York, New York; the DLV Irrevocable Trust, Dana Vollbracht, as trustee, both of Centennial, Colorado; and Vollbracht Properties, LLC, Raymond Baker, as manager, both of Denver, Colorado; each a member of the Vollbracht Family Group, a group acting in concert, to retain voting shares of Alpine Banks of Colorado, and thereby indirectly retain voting shares of Alpine Bank, both of Glenwood Springs, Colorado.

Board of Governors of the Federal Reserve System.
Michele Taylor Fennell,
Associate Secretary of the Board.

[FR Doc. 2025-16967 Filed 9-3-25; 8:45 am]

BILLING CODE P